Title 3—

The President

Executive Order 13333 of March 18, 2004

Amending Executive Order 13257 To Implement the

Trafficking Victims Protection Reauthorization Act of 2003

By the authority vested in me as President by the Constitution and the laws of the United States of America, including the Trafficking Victims Protection Act of 2000 (22 U.S.C. 7101 et seq.) (the “Act”), as amended by the Trafficking Victims Protection Reauthorization Act of 2003 (Public Law 108-193), and section 301 of title 3, United States Code, it is hereby ordered that Executive Order 13257 of February 13, 2002, is amended as follows:

Section 1. The preamble is amended by: (a) deleting “7103” and inserting in lieu thereof “7101 et seq.”; and (b) after the phrase “(the “Act”),” inserting “and section 301 of title 3, United States Code,”.

Sec. 2. Section 4 is redesignated as section 8.

Sec. 3. After section 3, the following new sections are added:

“Sec. 4. Guidelines, Policies, and Regulations. (a) The Senior Policy Operating Group (SPOG), described in subsection 105(f) of the Act, shall (i) establish guidelines and policies to coordinate the activities of executive branch departments and agencies regarding policies (including grants and grant policies) involving the international trafficking in persons and (ii) advise the Secretary of State what regulations may be necessary to implement section 105 of the Act, including such regulations as may be necessary to carry out the sharing of information on all matters relating to grants, grant policies, or other significant actions regarding the international trafficking in persons as set forth in subsection 105(f)(4) of the Act, to the extent permitted by law.

(b) The Secretary of State, in consultation with the members of the Task Force or their representatives, shall promulgate regulations to implement section 105 of the Act.

Sec. 5. Enhanced Prevention of Trafficking in Persons. (a) The Secretary of State, in consultation with the members of the Task Force or their representatives, shall carry out the functions under subsection 106(c) and subsection 106(d) of the Act.

(b) The Secretary of State shall have the authority to determine, under section 106(e)(1) of the Act, foreign destinations where sex tourism is significant. The Secretary of Homeland Security, in consultation with the members of the Task Force or their representatives and appropriate officials of the Departments of Commerce and Transportation, shall carry out all other functions under subsection 106(e) of the Act, including promulgation of any appropriate regulations relating to the distribution of the materials described in subsection 106(e).

(c) The head of each executive branch agency responsible for the establishment and conduct of initiatives and programs described in subsections 106(a) through (e) of the Act shall consult with appropriate nongovernmental organizations consistent with section 106(f) of the Act.

(d) The Secretary of State shall have responsibility to initiate appropriate regulatory implementation of the requirements set out in section 106(g) of the Act with respect to contracts, including proposing appropriate amendments to the Federal Acquisition Regulation. Each affected executive branch department or agency shall implement, within that department or agency, the requirements set out in section 106(g) of the Act with respect to grants and cooperative agreements.

Sec. 6. Research on Trafficking in Persons. The entities named in section 112A of the Act shall carry out the research initiatives required by section 112A of the Act, and shall award grants according to such policies and guidelines as may be established by the SPOG described in section 105(f) of the Act, as well as any applicable agency rules and regulations.

Sec. 7. Guidance for Exercising Authority and Performing Duties. In exercising authority delegated by, or performing functions assigned in, this order, officers of the United States shall ensure that all actions taken by them are consistent with the President's constitutional authority to:

(a)

conduct the foreign affairs of the United States;

(b)

withhold information the disclosure of which could impair the foreign relations, the national security, the deliberative processes of the Executive, or the performance of the Executive's constitutional duties;

(c)

recommend for congressional consideration such measures as the President may judge necessary or expedient; and

(d)

supervise the unitary Executive Branch.”

Sec. 4. Judicial Review. This order is not intended to, and does not, create any right or benefit, substantive or procedural, enforceable at law or in equity, by a party against the United States, its departments, agencies, entities, officers, employees or agents, or any other person.

B

THE WHITE HOUSE,

March 18, 2004.

[FR Doc. 04-6622

Filed 3-22-04; 8:45 am]

Billing code 3195-01-P